DEPARTMENT OF ENERGY

Federal Energy Regulatory Commission

[Docket No. RP00-261-000]

Columbia Gulf Transmission Company; Notice of Proposed Changes in FERC Gas Tariff

May 4, 2000.

Take notice that on May 1, 2000, Columbia Gulf Transmission Company (Columbia Gulf) tendered for filing as part of its FERC Gas Tariff, Second Revised Volume No. 1, the following revised tariff sheet, with a proposed effective date of June 1, 2000.

Fifth Revised Sheet No. 317

Columbia Gulf states that the purpose of this filing is to set forth in its pro forma service agreement, applicable to Rate Schedule FTS-1, FTS-2, ITS-1, and ITS-2, contained in its Tariff an additional type of permissible discount that would allow Columbia Gulf to accept a production and/or reserve commitment in consideration for the granting of a discount.

Columbia Gulf states that copies of its filing have been mailed to all firm and interruptible customers and affected state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protest will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11618 Filed 5-9-00; 8:45 am]

BILLING CODE 6717-01-M